DEPARTMENT OF LABOR

Employment and Training Administration

[NAFTA-5762]

JTD, Incorporated, Tigard, OR; Notice of Termination of Investigation

Pursuant to Title V of the North American Free Trade Agreement Implementation Act (Pub. L. 103-182) concerning transitional adjustment assistance, hereinafter called NAFTA-TAA and in accordance with section 250(a), Subchapter 2, Title II, of the Trade Act of 1974, as amended (19 USC 2331), an investigation was initiated on January 23, 2002 in response to a petition filed on the same date on behalf of workers at JTD, Incorporated, Tigard, Oregon.

The company official submitting the petition has requested that the petition be withdrawn. Consequently, further investigation in this case would serve no purpose, and the investigation has been terminated.

Signed in Washington, DC, this 5th day of July 2002.
Edward A. Tomchick,
Director, Division of Trade Adjustment Assistance.

[FR Doc. 02-18077 Filed 7-17-02; 8:45 am]

BILLING CODE 4510-30-P